DEPARTMENT OF LABOR

Employment and Training Administration

Final Finding of No Significant Impact for the Proposed Rehabilitation or Replacement of Buildings at the Gulfport Job Corps Center, 3300 20th Street, Gulfport, Mississippi 39501

AGENCY: Office of Job Corps, Employment and Training Administration (ETA), Labor.

ACTION: Publication of Final Finding of No Significant Impact.

SUMMARY: The Department of Labor (DOL or Department), ETA, Office of Job Corps, is issuing a Final Finding of No Significant Impact (FONSI) regarding the proposed rehabilitation or replacement of buildings at the Gulfport Job Corps Center (JCC) in Gulfport, Mississippi.

FOR FURTHER INFORMATION CONTACT: Marsha Fitzhugh, Division of Facilities and Asset Management, Office of Job Corps, ETA, U.S. Department of Labor, 200 Constitution Avenue NW, Room N-4463, Washington, DC 20210; Telephone (202) 693-3000 (this is not a toll-free number).

SUPPLEMENTARY INFORMATION:

Public Involvement: The Draft FONSI was published in the Federal Register on December 11, 2017 (82 FR 58218). The Federal Register announcement stated that comments would be accepted through January 10, 2018, and that the Draft FONSI and the Draft Final Environmental Assessment (EA) were available for public review and comment for a period of 30 days at the Gulfport Public Library, 1708 25th Avenue, Gulfport, MS 39501, and at http://www.jobcorps.gov/home.aspx. No comments were received on the Draft FONSI or the Draft Final EA.

Finding: The findings of the draft final EA and draft FONSI are accepted without alteration.

Rosemary Lahasky,
Deputy Assistant Secretary for Employment and Training.

[FR Doc. 2018-03823 Filed 2-23-18; 8:45 am]

BILLING CODE 4510-FT-P